DEPARTMENT OF TRANSPORTATION

Federal Aviation Administration

14 CFR Part 39

[Docket No. 2001-NM-104-AD; Amendment 39-12542; AD 2001-24-25]

RIN 2120-AA64

Airworthiness Directives; McDonnell Douglas Model DC-9-10, -20, -30, and -40 Series Airplanes and C-9 Airplanes

AGENCY: Federal Aviation Administration, DOT.

ACTION: Final rule.

SUMMARY: This amendment adopts a new airworthiness directive (AD), applicable to certain McDonnell Douglas Model DC-9-10, -20, -30, and -40 series airplanes and C-9 airplanes. This amendment requires modification of the spoiler control system, and installation of protective interlock box assemblies in the spoiler circuit. This amendment is necessary to prevent smoke/fire in the flight compartment in the event that the automatic spoiler actuator overheats, and/or loss of the spoiler control system, which could significantly reduce the braking effectiveness of the airplane. This action is intended to address the identified unsafe condition.

DATES: Effective January 16, 2002.

The incorporation by reference of certain publications listed in the regulations is approved by the Director of the Federal Register as of January 16, 2002.

ADDRESSES: The service information referenced in this AD may be obtained from Boeing Commercial Aircraft Group, Long Beach Division, 3855 Lakewood Boulevard, Long Beach, California 90846, Attention: Data and Service Management, Dept. C1-L5A (D800-0024). This information may be examined at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Elvin Wheeler, Aerospace Engineer, Systems and Equipment Branch, ANM-130L, FAA, Los Angeles Aircraft Certification Office, 3960 Paramount Boulevard, Lakewood, California 90712-4137; telephone (562) 627-5344; fax (562) 627-5210.

SUPPLEMENTARY INFORMATION: A proposal to amend part 39 of the Federal Aviation Regulations (14 CFR part 39) to include an airworthiness directive (AD) that is applicable to certain McDonnell Douglas Model DC-9-10, -20, -30, and -40 series airplanes and C-9 airplanes was published in the Federal Register on July 23, 2001 (66 FR 38198). That action proposed to require modification of the spoiler control system, and installation of protective interlock box assemblies in the spoiler circuit. That action was proposed to prevent smoke/fire in the flight compartment in the event that the automatic spoiler actuator overheats, and/or loss of the spoiler control system, which could significantly reduce the braking effectiveness of the airplane.

Since the Issuance of the NPRM

The FAA has been advised by the manufacturer that there may be a problem in supplying an adequate number of parts to modify the spoiler control system and to install protective interlock box assemblies in the spoiler circuit within the 1-year compliance time proposed in the NPRM. Consequently, we have extended the compliance times of paragraphs (a) and (b) of this AD to within 18 months after the effective date of this AD. We have determined that such an extension of the compliance times will accommodate the time necessary for affected operators to order, obtain, modify, and install certain parts necessary to accomplish the requirements of paragraph (a) and (b) of the AD, without adversely affecting safety.

Public Comments

Interested persons have been afforded an opportunity to participate in the making of this amendment. Due consideration has been given to the comments received.

Request To Clarify Requirements

The commenter states that the service bulletin (Boeing Alert Service Bulletin DC9-27A-147, Revision 03, dated May 8, 2001) referenced in the proposed rule specifies that Service Bulletin DC9-27-103 should be incorporated as a prerequisite. However, the commenter states that Service Bulletin DC9-27-103 is not mentioned in the proposed rule. The commenter concludes that compliance with the other service bulletin is implied, but not mandated by the proposed rule. The FAA infers that the commenter is requesting clarification.

The FAA acknowledges the request for clarification. Paragraph (a) of the final rule requires modification of the spoiler control system per Boeing Alert Service Bulletin DC9-27A147, which references Boeing Service Bulletin DC9-27-103. Specifically, however, paragraph (b) of the final rule does require installation of protective interlock box assemblies in the spoiler circuit per McDonnell Douglas DC-9 Service Bulletin 27-103, dated March 19, 1968. The compliance time for accomplishing that installation is clearly stated in paragraph (b) of the final rule as: “Prior to or in conjunction with the requirements of paragraph (a) of this AD.” No change to the final rule is necessary.

Request To Revise Reference to Service Information

The commenter requests that the FAA revise the proposed rule to require the procedures described in Boeing Service Bulletin DC9-27-283, which further modifies the spoiler interlock box by replacing the relay with an improved 6-pole double throw relay. Additionally, the commenter suggests that a “proposed” service bulletin that modifies the interlock box with the 6-pole relay and an “as-yet-undefined” service bulletin that describes procedures for modifying interlock boxes without the 6-pole relay be considered by the FAA. The commenter states that these service bulletins have been issued or soon will be issued.

The FAA does not concur with the request to add additional service information to the final rule. Installation of the time-delay relay (as part of the actions required by this AD) will terminate power to the actuator in 10 seconds after energizing the spoiler automatic actuator, and provides adequate protection against overheating of the actuator. To add further requirements to this rule as the commenter proposed, we would have to reissue the Notice of Proposed Rulemaking (NPRM) as a Supplemental NPRM in order to provide an appropriate time for public comment. Furthermore, we cannot require implementation of actions of service bulletins not yet developed and approved by the FAA. Therefore, we find that, in order to adequately address the unsafe condition in a timely manner, implementation of the required actions as proposed are warranted.

Request To Revise the Cost Estimate

This same commenter also requests that the 3 work hours estimated in the proposed rule for the installation of the protective interlock box assemblies in the spoiler circuit be revised to 24 work hours. The commenter also requests that the estimated cost of replacement parts specified as $20 in the proposed rule be revised to $2,750. The commenter provides this justification based on information retrieved from its SCEPTRE database.

The FAA does not concur that the cost estimates should be revised. We used the work hours specified in McDonnell Douglas DC-9 Service Bulletin 27-103(which is referenced in the AD as the appropriate source of service information for accomplishment of the required installation). We note that the economic analysis of this AD represents the time necessary to perform only the actions actually required by this AD. We recognize that, in accomplishing the requirements of any AD, operators may incur “incidental” costs in addition to the “direct” costs. As indicated in the preamble of the NPRM, the cost analysis in AD rulemaking actions typically does not include incidental costs, such as the time required to gain access and close up; planning time; or time necessitated by other administrative actions. Because incidental costs may vary significantly from operator to operator, they are almost impossible to calculate. Therefore, no change to the final rule is necessary.

Conclusion

After careful review of the available data, including the comments noted above, the FAA has determined that air safety and the public interest require the adoption of the rule with the changes described previously. The FAA has determined that these changes will neither increase the economic burden on any operator nor increase the scope of the AD.

Cost Impact

There are approximately 504 Model DC-9-10, -20, -30, and -40 series airplanes and C-9 airplanes of the affected design in the worldwide fleet. The FAA estimates that 272 airplanes of U.S. registry will be affected by this AD.

It will take approximately 5 work hours per airplane to accomplish the required modification, and that the average labor rate is $60 per work hour. Required parts will cost approximately $937 per airplane. Based on these figures, the cost impact of the AD on U.S. operators is estimated to be $336,464, or $1,237 per airplane.

It will take approximately 3 work hours per airplane to accomplish the proposed installation, and the average labor rate is $60 per work hour. Required parts would cost approximately $20 per airplane. Based on these figures, the cost impact of the installation proposed by this AD on U.S. operators is estimated to be $54,400, or $1,237 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-24-25 McDonnell Douglas: Amendment 39-12542. Docket 2001-NM-104-AD.

Applicability: Model DC-10-10, -20, -30, and -40 series airplanes, and C-9 airplanes, as listed in Boeing Alert Service Bulletin DC9-27A147, Revision 03, dated May 8, 2001; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent smoke/fire in the flight compartment in the event that the automatic spoiler actuator overheats, and/or loss of the spoiler control system, which could significantly reduce the braking effectiveness of the airplane; accomplish the following:

Modification of the Spoiler Control System

(a) Within 18 months after the effective date of this AD, modify the spoiler control system by accomplishing all actions specified in the Accomplishment Instructions of Boeing Alert Service Bulletin DC9-27A147, Revision 03, dated May 8, 2001, per the service bulletin.

Note 2: Modification per McDonnell Douglas Service Bulletin DC9-27-147, dated January 7, 1972; Revision 1, dated July 30, 1974; or Revision 2, dated May 9, 1975; before the effective date of this AD; is considered acceptable for compliance with paragraph (a) of this AD.

Installation of Protective Interlock Box Assemblies

(b) Prior to or in conjunction with the requirements of paragraph (a) of this AD, install protective interlock box assemblies in the spoiler circuit, per McDonnell Douglas DC-9 Service Bulletin 27-103, dated March 19, 1968.

Alternative Methods of Compliance

(c) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 3: Information concerning the existence of approved alternative methods of compliance with this AD, if any, may be obtained from the Los Angeles ACO.

Special Flight Permit

(d) Special flight permits may be issued in accordance with sections 21.197 and 21.199 of the Federal Aviation Regulations (14 CFR 21.197 and 21.199) to operate the airplane to a location where the requirements of this AD can be accomplished.

Incorporation by Reference

(e) The actions shall be done in accordance with Boeing Alert Service Bulletin DC9-27A147, Revision 03, dated May 8, 2001, and McDonnell Douglas DC-9 Service Bulletin 27-103, dated March 19, 1968; as applicable. This incorporation by reference was approved by the Director of the Federal Register in accordance with 5 U.S.C. 552(a) and 1 CFR part 51. Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(f) This amendment becomes effective on January 16, 2002.

Issued in Renton, Washington, on November 28, 2001.
Vi L. Lipski,
Manager, Transport Airplane Directorate, Aircraft Certification Service.

[FR Doc. 01-30201 Filed 12-11-01; 8:45 am]

BILLING CODE 4910-13-P